DEPARTMENT OF EDUCATION

Native American Vocational and Technical Education Program

AGENCY: Office of Vocational and Adult Education, Department of Education.

ACTION: Notice of proposed extension of project period and waiver.

SUMMARY: We propose to waive the requirement in 34 CFR 75.261(c)(2) as it applies to projects funded under the Native American Vocational and Technical Education Program (NAVTEP) in fiscal year (FY) 2000. We propose this waiver in order to be able to extend the project periods for 31 current grants awarded under the FY 2000 NAVTEP competition.

A waiver as proposed would mean that: (1) Current grants may be continued at least through FY 2005 (and possibly for subsequent years, depending on the availability of appropriations for NAVTEP in FY 2005 and those years under the current statutory authority), instead of ending in FY 2004, and (2) we would not announce a new competition or make new awards in FY 2004.

We are requesting public comments on the proposed extension of project period and waiver.

DATES: We must receive your comments on or before May 10, 2004.

ADDRESSES: Address all comments about this proposed extension and waiver to U.S. Department of Education, Office of Vocational and Adult Education, Attn: Sharon A. Jones, 400 Maryland Avenue, SW., Washington, DC 20202-7242. If you prefer to send your comments through the Internet, use the following address: sharon.jones@ed.gov.

FOR FURTHER INFORMATION CONTACT: Sharon A. Jones. Telephone (202) 245-7803.

If you use a telecommunications device for the deaf (TDD), you may call the Federal Information Relay Service (FIRS) at 1-800-877-8339.

Individuals with disabilities may obtain this notice of proposed extension and waiver in an alternative format (e.g., Braille, large print, audiotape, or computer diskette) on request to the contact person listed under FOR FURTHER INFORMATION CONTACT.

SUPPLEMENTARY INFORMATION:

Invitation To Comment

We invite you to submit comments regarding this proposed extension and waiver. We are particularly interested in receiving comments on the potential impact the extension and waiver may have on the NAVTEP and on potential eligible applicants who could apply for awards under the NAVTEP.

Additionally, we invite you to assist us in complying with the specific requirements of Executive Order 12866 and its overall requirement of reducing regulatory burden that might result from this proposed extension and waiver. Please let us know of any further opportunities we should take to reduce potential costs or increase potential benefits while preserving the effective and efficient administration of the NAVTEP.

During and after the comment period, you may inspect all public comments about this proposed extension and waiver in room 11108, Potomac Center Plaza, 550 12th Street, SW., Washington, DC, 20004 between the hours of 8 a.m. and 4 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for this proposed extension and waiver. If you want to schedule an appointment for this type of aid, please contact the person listed under FOR FURTHER INFORMATION CONTACT.

Background

On January 3, 2001 (66 FR 560), we issued a notice inviting applications for new awards under the NAVTEP. The notice: (a) Established a project period of up to 36 months and reiterated that funding for multi-year awards is dependent on a grantee meeting the requirements of 34 CFR 75.253 (Continuation of a multi-year project after the first budget period), (b) explained changes to the program, (c) described the evaluation and reporting requirements, and (d) established the Government Performance and Results Act (GPRA) indicators for the NAVTEP.

The Carl D. Perkins Vocational and Technical Education Act of 1998 (Perkins Act), which includes authorization for the NAVTEP, expired at the end of FY 2003 and was extended for one year under section 422 of the General Education Provisions Act (20 U.S.C. 1226a). With the uncertainties presented by the absence of authorizing legislation for the NAVTEP beyond 2004, it is not advisable to hold a competition in FY 2004 for projects that would then operate for just one year. We are generally reluctant to announce a competition under which eligible entities would be expected to proceed through the application preparation and submission process while lacking critical information about the future of the program, and do not think that it would be in the public interest to do so in this case.

Further, if we were to hold a competition in FY 2004 for grants to operate in FY 2005 using the FY 2003 appropriation, grantees would not have sufficient time to establish and operate effective projects. We think that multi-year projects are necessary for grantees to have ample time to operate high-quality certificate and degree-granting vocational and technical education programs under the NAVTEP and would result in a more efficient use of Federal funds.

We believe, therefore, that it is preferable and in the best interest of the NAVTEP for us to review requests for continuation awards from the 31 current FY 2000 grantees and extend currently funded projects, rather than hold a new competition in FY 2004. We believe that holding a new NAVTEP competition this year would create an unnecessary burden for current grantees since the 31 current grantees would have to undertake the effort and cost of submitting new applications for funding in FY 2004. Authorizing current grantees to request continuation awards would be a more appropriate and effective means for current NAVTEP grantees with projects already under way to continue their projects under this program and would also result in a more cost-effective use of Federal funds.

Education Department General Administrative Regulations (EDGAR) Requirement

In order to provide for continuation awards, we must waive the requirement in 34 CFR 75.261(c)(2), that establishes the conditions for extending a project period, including prohibiting the extension of a program's project period if it involves the obligation of additional Federal funds.

A waiver as proposed would mean that: (1) Current NAVTEP grantees would be authorized to apply for continuation awards in FY 2004 and could be continued at least through FY 2005 (and possibly for subsequent years, depending on the availability of appropriations for NAVTEP in FY 2005 and those years under the current statutory authority), instead of ending their current projects in FY 2004, (2) we would not announce a new competition or make new awards in FY 2004 or any years in which Congress appropriates funds under the current authority (3) the January 3, 2001, notice would govern projects we propose to extend under this notice, and (4) the approved applications submitted by the 31 current grantees in the 2001 competition would govern all continuation awards.

Continuation of the Current Grantees

With this proposed extension and waiver of § 75.261(c)(2) of EDGAR, we propose to extend the project periods of the 31 NAVTEP grantees that received grants under the FY 2000 competition for one year and for any additional years for which Congress appropriates funds under the current statutory authority.

Decisions regarding annual continuation awards will be based on the program narratives, budgets and budget narratives, Grant Performance Reports submitted by grantees, and on the regulations in 34 CFR 75.253. Consistent with 34 CFR 75.253, we would award continuation grants if we determine, based on information provided by each grantee, that each grantee is making substantial progress performing its NAVTEP grant activities. Under this proposed extension and waiver, (1) the project period for grantees could be extended to September 30, 2005, and (2) additional continuation awards could be made for any additional year or years for which Congress appropriates funds under existing statutory authority.

We do not interpret the waiver as exempting current grantees from the account closing provisions of Public Law 101-510, or as extending the availability of FY 2000 funds awarded to the grantees. As a result of Public Law 101-510, appropriations available for a limited period may be used for payments of valid obligations for only five years after the expiration of their period of availability for Federal obligation. After that time, the unexpended balance of those funds is canceled and returned to the Treasury Department and is unavailable for restoration for any purpose.

Regulatory Flexibility Act Certification

The Secretary certifies that the proposed extension and waiver and the activities required to support additional years of funding would not have a significant economic impact on a substantial number of small entities.

The small entities that would be affected by this proposed extension and waiver are the FY 2000 grantees currently receiving Federal funds and the following entities that are eligible for an award under the NAVTEP:

(1) A federally recognized Indian tribe.

(2) A tribal organization.

(3) An Alaska Native entity.

(4) A Bureau-funded school (as defined in the January 3, 2001 (66 FR 560), notice inviting applications), except for a Bureau-funded school proposing to use its award to support secondary school vocational and technical education programs.

However, the proposed extension and waiver would not have a significant economic impact on these entities because the proposed extension and waiver and the activities required to support the additional years of funding would not impose excessive regulatory burdens or require unnecessary Federal supervision. The proposed extension and waiver would impose minimal requirements to ensure the proper expenditure of program funds, including requirements that are standard to continuation awards.

Instructions for Requesting a Continuation Award

Generally, in order to receive a continuation grant, a grantee must submit an annual program narrative that describes the activities it intends to carry out during the year of the continuation award. The activities must be consistent with, or be a logical extension of, the scope, goals, and objectives of the grantee's application approved under the FY 2000 competition. A grantee must also submit a budget and budget narrative for each year it requests a continuation award. (34 CFR 75.253(c)(2)). A grantee should request a continuation award at least 30 days before its current grant expires. A grantee may request a continuation award for any year for which Congress appropriates funds under the current statutory authority.

Amount of New Awards Under Continuation Grant

The actual amount of any continuation award depends on factors such as: (1) The grantee's written statement describing how the funds made available under the continuation award will be used, (2) a cost analysis of the grantee's budget by the Department, and (3) whether the unobligated funds made available are needed to complete activities that are planned for completion in the prior budget period. (34 CFR 75.232 and 75.253(c)(2)(ii) and (3).)

Paperwork Reduction Act of 1995

This proposed extension and waiver does not contain any information collection requirements.

Intergovernmental Review

The NAVTEP is not subject to Executive Order 12372 and the regulations in 34 CFR part 79.

Assessment of Educational Impact

The Secretary particularly requests comments on whether this proposed extension and waiver would require transmission of information that any other agency or authority of the United States gathers or makes available.

Electronic Access to This Document

You may view this document, as well as all other Department of Education documents published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 2326(a) through (g).

(Catalog of Federal Domestic Assistance Number 84.101 Native American Vocational and Technical Education Program.)
Dated: April 6, 2004.
Susan Sclafani,
Assistant Secretary for Vocational and Adult Education.

[FR Doc. 04-8067 Filed 4-8-04; 8:45 am]

BILLING CODE 4000-01-P